DEPARTMENT OF AGRICULTURE

Animal and Plant Health Inspection Service

[Docket No. 03-022-1]

Availability of a Draft Pest Risk Analysis for the Importation of Hass Avocado Fruit From Mexico

AGENCY: Animal and Plant Health Inspection Service, USDA.

ACTION: Notice of availability and request for comments.

SUMMARY: We are advising the public of the availability of a draft pest risk analysis that has been prepared by the Animal and Plant Health Inspection Service relative to a proposed rule currently under consideration that would allow the importation of Hass avocados from Mexico into the entire United States and during all months of the year. We are making this draft pest risk analysis available to the public for review and comment.

DATES: We will consider all comments that we receive on or before August 15, 2003.

ADDRESSES: You may submit comments by postal mail/commercial delivery or by e-mail. If you use postal mail/commercial delivery, please send four copies of your comment (an original and three copies) to: Docket No. 03-022-1, Regulatory Analysis and Development, PPD, APHIS, Station 3C71, 4700 River Road Unit 118, Riverdale, MD 20737-1238. Please state that your comment refers to Docket No. 03-022-1. If you use e-mail, address your comment to regulations@aphis.usda.gov. Your comment must be contained in the body of your message; do not send attached files. Please include your name and address in your message and “Docket No. 03-022-1” on the subject line.

You may read any comments that we receive on the draft pest risk analysis in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Ron A. Sequeira, Center for Plant Health Science and Technology, PPQ, APHIS, 1017 Main Campus Drive, Suite 2500, Raleigh, NC 27606-5202; (919) 513-2663.

SUPPLEMENTARY INFORMATION:

Background

The Animal and Plant Health Inspection Service (APHIS) is considering amending the fruits and vegetables regulations in 7 CFR 319.56-2ff to allow the importation of Hass avocados from Mexico into the entire United States and during all months of the year. Fresh Hass variety avocados from Michoacan, Mexico, may currently be imported for distribution into 31 States and the District of Columbia between October 15 and April 15 under a systems approach for mitigating pest risk. The draft pest risk analysis entitled, “Importation of ‘Hass’ Avocado Fruit (Persea americana) from Mexico” (May 2003), considers the pest risks associated with the possible expansion of this program to allow importation of these avocados into all 50 States and the District of Columbia and throughout the year. We are making the draft pest risk analysis available to the public for review and comment.

You may view the draft pest risk analysis on the Internet at http://www.aphis.usda.gov/ppq/pra/, or in our reading room (information on the location and hours of the reading room is provided under the heading ADDRESSES at the beginning of this notice). You may also request a copy of the document from the person listed under the FOR FURTHER INFORMATION CONTACT.

This notice solicits public comments on the draft pest risk analysis. We will also be making the draft pest risk analysis available for public comment again during the comment period for any proposed rule related to the importation of Hass avocados from Mexico.

Authority: 7 U.S.C. 450, 7711-7714, 7718, 7731, 7732, 7751-7754, and 7760; 21 U.S.C. 136 and 136a; 7 CFR 2.22, 2.80, and 371.3.

Done in Washington, DC this 11th day of June 2003.
Peter Fernandez,
Acting Administrator, Animal and Plant Health Inspection Service.

[FR Doc. 03-15212 Filed 6-13-03; 8:45 am]

BILLING CODE 3410-34-P